DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table in the amendatory text of this rule.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced Elevation | * Elevation in feet (NGVD) + Elevation in feet (NAVD) # Depth in feet above ground ‸ Elevation in meters (MSL) Modified | Communities affected
Caldwell Parish, Louisiana, and Incorporated Areas
Docket Nos.: FEMA-B-1192 and FEMA-B-1207
Hurricane Creek | Approximately 500 feet downstream of the railroad | +125 | Town of Clarks, Village of Grayson.
| Approximately 0.66 mile upstream of State Highway 126 | +160
Hurricane Creek/Branch 2-3 | Approximately 0.9 mile upstream of the Hurricane Creek confluence | +146 | Unincorporated Areas of Caldwell Parish.
| Approximately 1.0 mile upstream of the Hurricane Creek confluence | +146
Hurricane Creek/Branch 3-1 | Approximately 1,275 feet upstream of the Hurricane Creek confluence | +168 | Unincorporated Areas of Caldwell Parish.
| Approximately 1.0 mile upstream of the Hurricane Creek confluence | +168
Hurricane Creek/Branch 3-4 (Hanchey Tributary) | Approximately 265 feet upstream of the Hurricane Creek confluence | +156 | Unincorporated Areas of Caldwell Parish.
| Approximately 0.87 mile upstream of the Hurricane Creek confluence | +156
Ouachita River | Approximately 0.7 mile downstream of U.S. Route 165 | +73 | Unincorporated Areas of Caldwell Parish.
| Approximately 1,475 feet upstream of U.S. Route 165 | +73
* National Geodetic Vertical Datum.
+ North American Vertical Datum.
# Depth in feet above ground.
‸ Mean Sea Level, rounded to the nearest 0.1 meter.
ADDRESSES
Town of Clarks
Maps are available for inspection at the Town Hall, 1714 State Highway 845, Clarks, LA 71415.
Unincorporated Areas of Caldwell Parish
Maps are available for inspection at the Caldwell Parish Community Recreation Center/911 Complex, 6563 U.S. Route 165, Columbia, LA 71418.
Village of Grayson
Maps are available for inspection at the Village Hall, 5228 State Highway 126 East, Grayson, LA 71435.
Callaway County, Missouri, and Incorporated Areas
Docket No.: FEMA-B-1210
Auxvasse Creek (backwater effects from Missouri River) | From the Missouri River confluence to approximately 0.66 mile upstream of County Road 447 | +539 | Unincorporated Areas of Callaway County.
Blue Creek (backwater effects from Missouri River) | From the Auxvasse Creek confluence to approximately 1.46 miles upstream of the Auxvasse Creek confluence | +539 | Unincorporated Areas of Callaway County.
Clabber Creek (backwater effects from Missouri River) | From the Clabber Creek confluence to approximately 175 feet downstream of County Road 470 | +542 | Unincorporated Areas of Callaway County.
Collier Creek (backwater effects from Missouri River) | From the Missouri River confluence to approximately 1,800 feet upstream of the Ewing Creek confluence | +541 | City of Mokane, Unincorporated Areas of Callaway County.
Eagle Creek (backwater effects from Missouri River) | From the Missouri River confluence to approximately 600 feet upstream of Eagle Creek Road | +534 | Unincorporated Areas of Callaway County.
Ewing Creek (backwater effects from Missouri River) | From the Collier Creek confluence to approximately 0.40 mile upstream of the Collier Creek confluence | +541 | City of Mokane, Unincorporated Areas of Callaway County.
Hillers Creek (backwater effects from Missouri River) | From the Missouri River confluence to approximately 400 feet upstream of County Road 485 | +546 | Unincorporated Areas of Callaway County.
Little Tavern Creek North (backwater effects from Missouri River) | From the Missouri River confluence to approximately 1,900 feet downstream of State Route 94 | +532 | Unincorporated Areas of Callaway County.
Logan Creek East (backwater effects from Missouri River) | From the Missouri River confluence to approximately 0.63 mile upstream of County Road 468 | +536 | Unincorporated Areas of Callaway County.
Middle River (backwater effects from Missouri River) | From the Missouri River confluence to approximately 600 feet upstream of State Highway PP | +544 | Unincorporated Areas of Callaway County.
Missouri River | Approximately 0.68 mile upstream of the Montgomery County boundary | +530 | City of Mokane, Unincorporated Areas of Callaway County.
| At the Boone/Cole County boundary | +563
Missouri River Tributary 1 (backwater effects from Missouri River) | From the Missouri River confluence to approximately 1,000 feet upstream of Harrisons Hill Road | +563 | Unincorporated Areas of Callaway County.
Missouri River Tributary 5.1 (backwater effects from Missouri River) | From the Missouri River confluence to approximately 0.63 mile downstream of County Road 4023 | +552 | Unincorporated Areas of Callaway County.
Missouri River Tributary 5.2 (backwater effects from Missouri River) | From the Missouri River confluence to approximately 50 feet downstream of State Route 94 | +550 | Unincorporated Areas of Callaway County.
Mud Creek East (backwater effects from Missouri River) | From the Logan Creek East confluence to approximately 0.47 mile downstream of County Road 457 | +537 | Unincorporated Areas of Callaway County.
Muddy Creek (backwater effects from Missouri River) | From the Middle River confluence to approximately 1.19 miles upstream of County Road 480 | +544 | Unincorporated Areas of Callaway County.
Niemans Creek (backwater effects from Missouri River) | From the Missouri River confluence to approximately 0.91 mile downstream of County Road 4039 | +554 | Unincorporated Areas of Callaway County.
Niemans Creek Tributary 3 (backwater effects from Missouri River) | From the Niemans Creek confluence to approximately 1,200 feet upstream of the Niemans Creek confluence | +554 | Unincorporated Areas of Callaway County.
Rivaux Creek (backwater effects from Missouri River) | From the Missouri River confluence to approximately 0.47 mile downstream of the Rivaux Creek Tributary 7 confluence | +552 | Unincorporated Areas of Callaway County.
Tavern Creek (backwater effects from Missouri River) | From the Missouri River confluence to approximately 1.25 miles upstream of State Route 94 | +532 | Unincorporated Areas of Callaway County.
* National Geodetic Vertical Datum.
+ North American Vertical Datum.
# Depth in feet above ground.
‸ Mean Sea Level, rounded to the nearest 0.1 meter.
ADDRESSES
City of Mokane
Maps are available for inspection at the Callaway County Courthouse, 10 East 5th Street, Fulton, MO 52251.
Unincorporated Areas of Callaway County
Maps are available for inspection at the Callaway County Courthouse, 10 East 5th Street, Fulton, MO 52251.
Clark County, Washington, and Incorporated Areas
Docket No.: FEMA-B-1166
Burnt Bridge Creek | Just upstream of I-205 | +192 | City of Vancouver, Unincorporated Areas of Clark County.
| Approximately 1,056 feet upstream of Northeast 152nd Street | +200
China Ditch | Just upstream of Northeast Ward Road | +252 | Unincorporated Areas of Clark County.
| Approximately 0.4 mile upstream of Northeast 144th Street | +275
Curtin Creek | At the confluence with Salmon Creek | +172 | Unincorporated Areas of Clark County.
| Approximately 700 feet upstream of Anderson Road | +260
Dead Lake | Entire shoreline within community | +191 | City of Camas, Unincorporated Areas of Clark County.
Fifth Plain Creek | At the confluence with Lacamas Creek | +208 | City of Vancouver, Unincorporated Areas of Clark County.
| Approximately 0.7 mile upstream of Northeast Davis Road | +342
Gee Creek | Just downstream of Burlington Northern Santa Fe Railroad | +27 | City of Ridgefield, Unincorporated Areas of Clark County.
| Approximately 0.5 mile upstream of I-5 | +315
Lacamas Creek | Just downstream of Northeast 3rd Avenue | +35 | City of Camas, Unincorporated Areas of Clark County.
| Approximately 1.3 miles upstream of Northeast 3rd Avenue | +163
| Approximately 1 mile downstream of Northeast Goodwin Road | +191
| Approximately 0.5 mile upstream of Northeast 217th Avenue | +281
Lake Lacamas | Entire shoreline within community | +191 | City of Camas, Unincorporated Areas of Clark County.
Mill Creek | At the confluence with Salmon Creek | +137 | City of Battle Ground, Unincorporated Areas of Clark County.
| Just downstream of Northwest 20th Avenue | +279
Packard Creek | Approximately 375 feet downstream of Northwest 179th Street | +66 | Unincorporated Areas of Clark County.
| Approximately 1,040 feet upstream of Northwest 11th Avenue | +290
Padden Creek | Approximately 460 feet downstream of Northeast 83rd Street | +214 | Unincorporated Areas of Clark County.
| Approximately 160 feet upstream of Northeast 88th Street | +228
Round Lake | Entire shoreline within community | +191 | City of Camas, Unincorporated Areas of Clark County.
Salmon Creek | At the confluence with Weaver Creek | +210 | City of Battle Ground, Unincorporated Areas of Clark County.
| Just upstream of Risto Road | +363
Spring Branch Creek | At the confluence with Lacamas Creek | +198 | Unincorporated Areas of Clark County.
| Approximately 1.25 miles upstream of the confluence with Lacamas Creek | +200
Weaver Creek | Approximately 320 feet upstream of Northeast 169th Street | +215 | City of Battle Ground, Unincorporated Areas of Clark County.
| Approximately 1.1 miles upstream of Northeast 152nd Avenue | +345
Whipple Creek | Just downstream of Northwest Krieger Road | +28 | Unincorporated Areas of Clark County.
| Approximately 0.8 mile upstream of Northeast 179th Street | +241
* National Geodetic Vertical Datum.
+ North American Vertical Datum.
# Depth in feet above ground.
‸ Mean Sea Level, rounded to the nearest 0.1 meter.
ADDRESSES
City of Battle Ground
Maps are available for inspection at 109 Southwest 1st Street, Battle Ground, WA 98604.
City of Camas
Maps are available for inspection at 616 Northeast 4th Avenue, Camas, WA 98607.
City of Ridgefield
Maps are available for inspection at 230 Pioneer Street, Ridgefield, WA 98642.
City of Vancouver
Maps are available for inspection at 210 East 13th Street, Vancouver, WA 98668.
Unincorporated Areas of Clark County
Maps are available for inspection at 1300 Franklin Street, Vancouver, WA 98668.

(Catalog of Federal Domestic Assistance No. 97.022, “Flood Insurance.”)

Dated: July 25, 2012.
Sandra K. Knight,
Deputy Associate Administrator for Mitigation, Department of Homeland Security, Federal Emergency Management Agency.

[FR Doc. 2012-19222 Filed 8-6-12; 8:45 am]

BILLING CODE 9110-12-P